DEPARTMENT OF THE INTERIOR

Bureau of Land Management

[LLUTG02000. L14300000. FR0000.241A.00; UTU-83291]

Notice of Realty Action: Recreation and Public Purposes Act Classification and Conveyance of Public Land in Emery County, UT

AGENCY: Bureau of Land Management, Interior.

ACTION: Notice of Realty Action.

SUMMARY: The Bureau of Land Management (BLM) has examined and found suitable for classification and conveyance to Emery County under the provisions of the Recreation and Public Purposes (R&PP) Act, as amended, a parcel of public land in Emery County, Utah. Emery County proposes to establish a public shooting range facilities complex.

DATES: Interested parties may submit written comments regarding this classification and conveyance of public land until November 14, 2011.

ADDRESSES: Comments may be submitted to the Bureau of Land Management, Price Field Office, 125 South 600 West, Price, Utah, 84501 or e-mail: UT_PR_Comments@blm.gov. Please reference “Conveyance of Federal Land to Emery County for Establishment of a Public Shooting Range” on all correspondence.

FOR FURTHER INFORMATION CONTACT: Connie Leschin, BLM Price Field Office, by phone at (435) 636-3610 or by e-mail at Connie_Leschin@blm.gov. Persons who use a telecommunications device for the deaf (TDD) may call the Federal Information Relay Service (FIRS) at (800) 877-8339 to contact the above individual during normal business hours. The FIRS is available 24 hours a day, 7 days a week, to leave a message or questions with the above mentioned individual. You will receive a reply during normal business hours.

SUPPLEMENTARY INFORMATION: The BLM has examined and found the following described public land suitable for classification and conveyance under the provisions of the R&PP Act, as amended (43 U.S.C. 869 et seq.) and 43 CFR part 2740. The following described land is hereby classified accordingly pursuant to the Taylor Grazing Act, as amended (43 U.S.C. 315(f)):

Salt Lake Meridian

T. 18 S., R. 8 E.

Sec. 9, SE¼SW¼.

The area described contains 40 acres, more or less, in Emery County.

This 40-acre parcel is proposed to be transferred to Emery County for use as a trap shooting range and establishment of a rifle range. The BLM conducted a Phase II Environmental Site Assessment in May of 2011. No hazardous substances, petroleum products, or recognized environmental conditions were identified on the 40 acre parcel; no further inquiry is needed to assess Recognized Environmental Conditions. The land is not needed for any Federal purpose of National significance. The classification is consistent with the BLM Price Field Office Record of Decision and Approved Resource Management Plan, Lands and Realty Decision LAR-11, dated October 31, 2008, and is in the public interest. An environmental assessment has been prepared to analyze the Emery County application and proposed plans of development and management. A conveyance would be subject to the provisions of the R&PP Act, applicable regulations of the Secretary of the Interior, and the following reservations to the United States:

1. A right-of-way thereon for ditches or canals constructed by the authority of the United States, Act of August 30, 1890 (43 U.S.C. 945).

2. All minerals, together with the right to prospect for, mine, and remove such deposits from the same under applicable law and such regulations as the Secretary of the Interior may prescribe.

A conveyance would also be subject to the following terms and conditions:

1. All valid existing rights.

2. An indemnification clause protecting the United States from claims arising out of the patentee's use, occupancy, or operations on the land.

3. A limited reversionary provision stating that the title shall revert to the United States upon a finding, after notice and opportunity for a hearing, that the patentee has not substantially developed the lands in accordance with the approved plan of development on or before the date 5 years after the date of conveyance. No portion of the land shall under any circumstance revert to the United States if any such portion has been used for solid waste disposal or for any other purpose which may result in the disposal, placement, or release of any hazardous substance.

On September 29, 2011, the land described above is segregated from all other forms of appropriation under the public land laws, including the general mining laws, except for conveyance under the R&PP Act and leasing under the mineral leasing laws. The grazing permittees have waived the 2-year notification period in accordance with 43 CFR 4110.4(b).

Classification Comments: Interested parties may submit comments involving the suitability of the land for a shooting facilities complex. Comments on the classification are restricted to whether the land is physically suited for the proposal, whether the use will maximize the future use (or uses) of the land, whether the use is consistent with local planning and zoning, or whether the use is consistent with State and Federal programs.

Application Comments: Interested parties may submit comments regarding the specific use proposed in the application, or any other factors not directly related to the suitability of the land for a shooting facilities complex.

Before including your address, phone number, e-mail address, or other personal identifying information in your comment, you should be aware that your entire comment—including your personal identifying information—may be made publicly available at any time. While you can ask us in your comment to withhold your personal identifying information from public review, we cannot guarantee that we will be able to do so.

The BLM State Director will review any adverse comments. In the absence of any adverse comments, the classification will become effective on November 28, 2011. The land will not be available for conveyance until after the classification becomes effective. An Environmental Assessment (DOI-BLM-UT-G021-2009-0083) has been completed with a finding of no significant impact and is available at the address listed above.

Authority: 43 CFR 2741.5(h)

Juan Palma,
State Director.

[FR Doc. 2011-25059 Filed 9-28-11; 8:45 am]

BILLING CODE 4310-DQ-P